SELECTIVE SERVICE SYSTEM

32 CFR Part 1615

Change of Agency Address To Request a Verification Notice

AGENCY: Selective Service System.

ACTION: Final rule; technical amendment.

SUMMARY: This technical amendment to the rule on administration of registration changes the Selective Service System (SSS) address for registrants to contact if they do not receive a verification notice from SSS within 90 days after completing and submitting a Registration Card. The present address in the Code of Federal Regulations is outdated due to a change of location for the Agency's headquarters and its Data Management Center.

DATES: Effective September 5, 2000.

FOR FURTHER INFORMATION CONTACT: Rudy Sanchez, Office of the General Counsel, Selective Service System, 1515 Wilson Boulevard, Arlington, VA 22209-2425. (703-605-4071).

SUPPLEMENTARY INFORMATION: The SSS considers this rule (32 CFR part 1615) to be a procedural rule which is exempt from the notice-and-comment under 5 U.S.C. 533(b)(3)(A). This rule is not a significant rule for the purpose of Executive Order 12866 and has not been reviewed by the Office of Management and Budget. As required by the Regulatory Flexibility Act, SSS certifies that these regulatory amendments will not have a significant impact on small business entities.

Lists of Subjects in 32 CFR Part 1615

Selective Service System.

For the reason set forth in the preamble, amend part 1615 of title 32 of the Code of Federal Regulations as follows:

PART 1615—ADMINISTRATION OF REGISTRATION

1. The authority citation for part 1615 continues to read as follows:

Authority: Military Selective Service Act, 50 U.S.C. 451 et seq. and E.O. 11623.

§ 1615.1 [Amended]

2. In § 1615.1(b), revise “600 E Street, NW., Washington, DC 20435” to read “P.O. Box 94638, Palatine, IL 60094-4638”.

Dated: July 28, 2000.
Gil Coronado,
Director.

[FR Doc. 00-19514 Filed 8-2-00; 8:45 am]

BILLING CODE 8015-01-U